DEPARTMENT OF HEALTH AND HUMAN SERVICES

Health Resources and Services Administration

Advisory Committee on Heritable Disorders and Genetic Diseases in Newborns and Children (ACHDGDNC)

AGENCY: Health Resources and Services Administration (HRSA), HHS.

ACTION: Notice of ACHDGDNC Meeting to be held by Conference Call.

SUMMARY: The ACHDGDNC will be conducting a two hour conference call to hear a presentation from the ACHDGDNC's Evidence Review Workgroup and discuss the Committee's Report on long-term followup.

DATES: The conference call will be held on November 14, 2007, at 2 p.m. EST. Participants must dial: 1-877-922-9969 and enter the corresponding pass code 627445. For security reasons, the pass code 627445 is required to join the call. Participants should call no later than 1:50 p.m. EST in order for the logistics to be set up. Participants are asked to register for the conference by contacting Carrie Diener at (301) 443-1080 or e-mail cdiener@hrsa.gov. The registration deadline is November 12, 2007. The Department will try to accommodate those wishing to participate in the call. Any member of the public can submit written materials that will be distributed to Committee members prior to the conference call. Parties wishing to submit written comments should ensure that the comments are postmarked or emailed no later than November 12, 2007, for consideration. Comments should be submitted to Michele A. Lloyd-Puryear, Executive Secretary, ACHDGDNC, Maternal and Child Health Bureau, HRSA, Parklawn Building, Room 18A-19, 5600 Fishers Lane, Rockville, Maryland 20857; telephone (301) 443-1080; fax (301) 443-8604; or e-mail: mpuryear@hrsa.gov.

Members of the public can present oral comments during the conference call during the public comment period. If a member of the public wishes to speak, the Department should be notified at the time the participant registers. Other members of the public will be allocated time if time permits.

FOR FURTHER INFORMATION CONTACT: Michele A. Lloyd-Puryear, Executive Secretary, ACHDGDNC, Maternal and Child Health Bureau, HRSA, Parklawn Building, Room 18A-19, 5600 Fishers Lane, Rockville, Maryland 20857; telephone (301) 443-1080; fax (301) 443-8604; or e-mail: mpuryear@hrsa.gov.

SUPPLEMENTARY INFORMATION: The ACHDGDNC was chartered under Section 1111 of the Public Health Service (PHS) Act, 42 U.S.C. 300b-10, in February 2003 to advise the Secretary of the U.S. Department of Health and Human Services. The ACHDGDNC is directed to review and report regularly on newborn and childhood screening practices for heritable disorders, to recommend improvements in the national newborn and childhood heritable screening programs, and to engage in the following activities:

(1) Provide advice and recommendations to the Secretary concerning grants and projects awarded or funded under its designated authorizing PHS Act;

(2) Provide technical information to the Secretary for the development of policies and priorities for the administration of grants under the designated PHS act; and

(3) Provide such recommendations, advice or information as may be necessary to enhance, expand or improve the ability of the Secretary to reduce the mortality or morbidity in newborns and children from heritable disorders.

The purpose of this call is to hear discussion from the ACHDGDNC members on the proposed review template from the ACHDGDNC's Evidence Workgroup and, if the ACHDGDNC chooses, to approve that template. In addition, the ACHDGDNC may choose to develop recommendations from the ACHDGDNC to the Secretary concerning the ACHDGDNC's evaluation and decisionmaking process and newborn screening long-term followup.

Dated: October 9, 2007.
Alexandra Huttinger,
Acting Director, Division of Policy Review and Coordination.

[FR Doc. E7-20387 Filed 10-15-07; 8:45 am]

BILLING CODE 4165-15-P